COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List services to be furnished by nonprofit agencies employing persons who are blind or have other severe disabilities.

COMMENTS MUST BE RECEIVED ON OR BEFORE: June 8, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments of the proposed actions. If the Committee approves the proposed additions, the entities of the Federal Government identified in the notice for each service will be required to procure the services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited.

Commenters should identify the statement(s) underlying the certification on which they are providing additional information.

The following services are proposed for addition to Procurement List for production by the nonprofit agencies listed:

Services

Service Type/Location: Custodial Service, Bureau of Engraving and Printing, Landover Warehouse Facility, Landover, Maryland

NPA: Davis Memorial Goodwill Industries, Washington, DC

Contract Activity: Bureau of Engraving, Department of the Treasury, Washington, DC

Service Type/Location: Custodial Service, Franklin D. Roosevelt Library, Hyde Park, New York

NPA: Gateway Community Industries, Inc., Kingston, New York

Contract Activity: National Archives & Records Administration, College Park, Maryland

Service Type/Location: Custodial Service, Overton Corner Border Station, Champlain, New York

NPA: Clinton County Chapter, NYSARC, Inc., Plattsburgh, New York

Contract Activity: GSA/PBS Upstate New York Service Center, Syracuse, New York

Service Type/Location: Custodial Service, U.S. Border Station, Old Champlain (Farm), Champlain, New York

NPA: Clinton County Chapter, NYSARC, Inc., Plattsburgh, New York

Contract Activity: GSA/PBS Upstate New York Service Center, Syracuse, New York

Service Type/Location: Forms Distribution Service, Department of Health and Human Services, Agency for Healthcare, Research and Quality (AHRQ), Rockville, Maryland

NPA: Sheltered Occupational Center of Northern Virginia, Inc., Arlington, Virginia

Contract Activity: Agency for Healthcare Research and Quality, Rockville, Maryland

Service Type/Location: Janitorial/Custodial, Carl B. Stokes Federal Courthouse, Cleveland, Ohio

NPA: VGS, Inc., Cleveland, Ohio

Contract Activity: GSA, Public Buildings Service (5P), Chicago, Illinois

Service Type/Location: Janitorial/Custodial, FAA, ATCT & FSDO, Gerald Ford International Airport, Grand Rapids, Michigan

NPA: Hope Network Services Corporation, Grand Rapids, Michigan

Contract Activity: Federal Aviation Administration, Des Plaines, Illinois

Service Type/Location: Janitorial/Custodial, U.S. Army Reserve Center, Flint, Michigan

NPA: Michigan Community Services, Inc., Swartz Creek, Michigan

Contract Activity: Headquarters, 88th Regional Support Command, Fort Snelling, Minnesota

Service Type/Location: Janitorial/Custodial, U.S. Army Reserve Center (Reading), Reading, Pennsylvania

NPA: Quality Employment Services and Training, Inc., Lebanon, Pennsylvania

Contract Activity: 99th Regional Support Command, Coraopolis, Pennsylvania

Service Type/Location: Janitorial/Grounds Maintenance, Bureau of Customs and Border Protection, McAllen Sector Quonset Hut, McAllen, Texas, Bureau of Customs and Border Protection, Traffic Checkpoint (Sarita)—McAllen Sector, Kingsville, Texas, Bureau of Customs and Border Protection, Traffic Checkpoint—McAllen Sector, Brownsville, Texas, Bureau of Customs and Border Protection, Traffic Checkpoint—McAllen Sector, Falfurrias, Texas, Bureau of Customs and Border Protection Traffic Checkpoint (Mercedes)—McAllen Sector, Weslaco, Texas, Bureau of Customs and Border Protection Station, Electronic/Technical, McAllen Sector, Kingsville, Texas, Bureau of Customs and Border Protection Station, McAllen Sector, Corpus Christi, Texas, Bureau of Customs and Border Protection Station (McAllen Sector), Falfurrias, Texas, Bureau of Customs and Border Protection Station (McAllen Sector), Harlingen, Texas, Bureau of Customs and Border Protection Station (McAllen Sector), Rio Grande City, Texas

NPA: Training, Rehabilitation, & Development Institute, Inc., San Antonio, Texas

Contract Activity: Immigration and Naturalization Service, DOJ

Sheryl D. Kennerly,
Director, Information Management.

[FR Doc. 03-11594 Filed 5-8-03; 8:45 am]

BILLING CODE 6353-01-P